DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 16, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Request for Special Priorities Assistance (Agriculture Priorities and Allocations System (APAS)).

OMB Control Number: 0560-0280.

Summary of Collection: The Request for Special Priorities Assistance (Agriculture Priorities and Allocations System (APAS)) regulation is promulgated in 7 CFR 789. This information is used to support the APAS managed by the United States Department of Agriculture, Farm Service Agency (FSA). The APAS program supports not only national defense needs (such as food for combat rations), but also emergency preparedness initiatives by addressing essential civilian needs (food and food resources) through the placing of priorities on contracts for items and services or allocating resources, as necessary. Priorities contracts are required to be given preference over other respective contracts to ensure timely delivery of an item that has been deemed necessary only in times of emergency or to promote the U.S. national defense.

Need and Use of the Information: Information collected on the form AD-2102, Request for Special Priorities Assistance for Emergency Preparedness form is used to grant a priority rating request on contract(s) between the government and private parties or between private parties for the production or delivery of food, food resources (including livestock, feed, and agriculture seed), fertilizer, and farm equipment. The information collected on the Request for Special Priorities Assistance is limited to: (1) Name, address, and contact information of the person making the request for priority rating of a contract, (2) Name, address, and contact information of the vendor supplying the item, (3) Items the person is requesting for a priority rating on a contract, including `required by shipping dates' and (4) Explanatory section for the person to include circumstances requiring this request.

Failure to collect and maintain the data collected on the form will limit or eliminate USDA's ability to prepare for, respond to, and conduct emergency recovery actions because of an actual or impending hazard.

Description of Respondents: Business or other for-profit.

Number of Respondents: 50.

Frequency of Responses: Recordkeeping; Reporting: Annually.

Total Burden Hours: 25.

Dated: April 11, 2022.
Ruth Brown,
Departmental Information Collection Clearance Officer.

[FR Doc. 2022-08017 Filed 4-13-22; 8:45 am]

BILLING CODE 3410-05-P